DEPARTMENT OF ENERGY

Federal Energy Regulatory Commission

Notice of Application Tendered for Filing With the Commission

February 2, 2000.

Take notice that the following hydroelectric application has been filed with the Commission and is available for public inspection.

a. Type of Application: New Major License.

b. Project No.: 2042-013.

c. Date filed: January 21, 2000.

d. Applicant: Public Utility District No. 1 of Pend Oreille County.

e. Name of Project: Box Canyon Hydroelectric Project.

f. Location: On the Pend Oreille River, in Pend Oreille County, Washington and Bonner County, Idaho. About 709 acres within the project boundary are located on lands of the United states, including Kalispel Indian Reservation (493 ac), U.S. Forest Service Colville National Forest (182.93), U.S. Department of Energy, Bonneville Power Administration (24.14), U.S. Fish and Wildlife Service (2.45), U.S. Army Corps of Engineers (5.29), and U.S. Bureau of Land Management (1.44).

g. Filed Pursuant to: Federal Power Act 16 U.S.C. 791(a)-825(r).

h. Applicant Contact: Robert Geddes, Public Utility District No. 1 of Pend Oreille County, 130 North Washington, Newport, WA 99156; (509) 447-3137.

i. FERC Contact: David Turner (202) 219-2844, Email: david.turner@ferc.fed.us

j. Brief Project Description: The 60-megawatt (MW) project consists of the following: (1) 46-foot-high, 160-foot-long reinforced concrete dam with integral spillway, (2) 217-foot-long, 35-foot-diameter diversion tunnel, (3) 1,170-foot-long forebay channel, (4) auxiliary spillway, (5) powerhouse containing four generating units with a combined capacity of 60 MW, (2) 8,850-acre reservoir at maximum operating pool elevation of 2030.6 feet, and other associated facilities.

k. Locations of the application: A copy of the application is available for inspection and reproduction at the Commission's Public Reference Room, located at 888 First Street, NE, Room 2A, Washington, DC 20426, or by calling (202) 208-1371. The application may be viewed on the web at http://www.ferc.fed.us/online/rims.htm (call (202) 208-2222 for assistance). A copy is also available for inspection and reproduction at the address in item h above.

l. With this notice, we are initiating consultation with the Montana and Idaho STATE HISTORIC PRESERVATION OFFICER (SHPO), as required by § 106, Naitonal Historic Preservation Act, and the regulations of the Advisory Council on Historic Preservation, 36 CFR 800.4.

m. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the filing date and serve a copy of the request on the applicant.

David P. Boergers,
Secretary.

[FR Doc. 00-2782 Filed 2-7-00; 8:45 am]

BILLING CODE 6717-01-M